DEPARTMENT OF ENERGY

Federal Energy Regulatory Commission

Combined Notice of Filings

Take notice that the Commission has received the following Natural Gas Pipeline Rate and Refund Report filings:

Docket Number: PR20-74-000.

Applicants: Columbia Gas of Ohio, Inc.

Description: Tariff filing per 284.123(b),(e)/: COH Rates effective Aug 27 2020 to be effective 8/27/2020.

Filed Date: 9/28/2020.

Accession Number: 202009285036.

Comments/Protests Due: 5 p.m. ET 10/19/2020.

Docket Numbers: RP20-1225-000.

Applicants: Equitrans, L.P.

Description: § 4(d) Rate Filing: Negotiated Rate Agreements—BP Range—11/1/2020 to be effective 11/1/2020.

Filed Date: 9/28/20.

Accession Number: 20200928-5007.

Comments Due: 5 p.m. ET 10/13/20.

Docket Numbers: RP20-1226-000.

Applicants: Equitrans, L.P.

Description: § 4(d) Rate Filing: Negotiated Rate Capacity Release Agreement—Eclipse—9/26/2020 to be effective 9/26/2020.

Filed Date: 9/28/20.

Accession Number: 20200928-5032.

Comments Due: 5 p.m. ET 10/13/20.

Docket Numbers: RP20-1227-000.

Applicants: Wyoming Interstate Company, L.L.C.

Description: Compliance filing Operational Purchase and Sale Report.

Filed Date: 9/28/20.

Accession Number: 20200928-5037.

Comments Due: 5 p.m. ET 10/13/20.

Docket Numbers: RP20-1228-000.

Applicants: Natural Gas Pipeline Company of America.

Description: Compliance filing Penalty Revenue Crediting Report From January through June 2020.

Filed Date: 9/28/20.

Accession Number: 20200928-5038.

Comments Due: 5 p.m. ET 10/13/20.

Docket Numbers: RP20-1229-000.

Applicants: Cheniere Corpus Christi Pipeline, LP.

Description: § 4(d) Rate Filing: Housekeeping Clean Up to be effective 10/28/2020.

Filed Date: 9/28/20.

Accession Number: 20200928-5140.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2020.
Nathaniel J. Davis, Sr.,
Deputy Secretary.

[FR Doc. 2020-21950 Filed 10-2-20; 8:45 am]

BILLING CODE 6717-01-P